DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 16, 2003.

Interested persons are invited to submit written comments regarding the subject matter of the investigations to the Director, Division of Trade Adjustment Assistance, at the address shown below, not later than May 16, 2003.

The petitions filed in this case are available for inspection at the Office of the Director, Division of Trade Adjustment Assistance, Employment and Training Administration, U.S. Department of Labor, Room C-5311, 200 Constitution Avenue, NW., Washington, DC 20210.

Signed at Washington, DC, this 25th day of April 2003.
Terrence Clark,
Acting Director, Division of Trade Adjustment Assistance.

Appendix
[Petitions instituted between 04/14/2003 and 04/18/2003]
TA-W | Subject firm (petitioners) | Location | Date of institution | Date of petition
51,487 | R.A.G.S. Inc. (Comp) | Lexington, NC | 04/14/2003 | 04/11/2003
51,488 | Essex Electrical Inc. (Wkrs) | Sikeston, MO | 04/14/2003 | 04/08/2003
51,489 | Alteon (Wkrs) | Long Beach, CA | 04/14/2003 | 04/11/2003
51,490 | Saint-Gobain Vetrotex America (TX) | Wichita Falls, TX | 04/14/2003 | 04/10/2003
51,491 | Narrow Fabric Industries Corporation (Comp) | West Reading, PA | 04/14/2003 | 04/10/2003
51,492 | Q.C. Onics Ventures LP (Comp) | Harlingen, TX | 04/14/2003 | 04/03/2003
51,493 | Chicago Bridge and Iron (Wkrs) | Warren, PA | 04/14/2003 | 04/07/2003
51,494 | Interstate Drop Forge (IBB) | Milwaukee, WI | 04/14/2003 | 04/11/2003
51,495 | Alliance Machine Company (Wkrs) | Alliance, OH | 04/14/2003 | 04/08/2003
51,496 | Fishing Vessel (F/V) AU (Comp) | Juneau, AK | 04/15/2003 | 04/13/2003
51,497 | Fishing Vessel (F/V Northern Star (Comp) | King Cove, AK | 04/15/2003 | 04/11/2003
51,498 | Precision Interconnect/Tyco Healthcare (Comp) | Broomfield, CO | 04/15/2003 | 04/15/2003
51,499 | Malthus Diagnostic, Inc. (Comp) | N. Ridgeville, OH | 04/15/2003 | 04/15/2003
51,500 | EMC Technologies, Inc. (NJ) | Cherry Hill, NJ | 04/15/2003 | 04/15/2003
51,501 | Goodrich Landing Gear (Wkrs) | Cleveland, OH | 04/15/2003 | 03/23/2003
51,502 | Ericson Inc. (Comp) | Richardson, TX | 04/15/2003 | 04/07/2003
51,503 | Fullarton Computer Industries (Comp) | Winterville, NC | 04/15/2003 | 04/14/2003
51,504 | Newport Corporation (Wkrs) | Plymouth, MN | 04/15/2003 | 04/01/2003
51,505 | KMC Wheel Company (Comp) | Riverside, CA | 04/15/2003 | 03/31/2003
51,506 | Phillips Plastics Corporation (Comp) | Phillips, WI | 04/15/2003 | 04/09/2003
51,507 | PerkinElmer Life and Analytical Sciences (Comp) | Norton, OH | 04/15/2003 | 03/15/2003
51,508 | Andrew Corporation (Comp) | Orland Park, IL | 04/15/2003 | 04/03/2003
51,509 | Alpha Omega Jet Server (Comp) | Sulphur Springs, TX | 04/15/2003 | 04/08/2003
51,510 | Dana Corporation (PACE) | Ft. Wayne, IN | 04/15/2003 | 04/10/2003
51,511 | Frederic Goldman, Inc. (Wkrs) | New York, NY | 04/15/2003 | 04/15/2003
51,512 | Unocal (Wkrs) | Anchorage, AK | 04/16/2003 | 04/11/2003
51,513 | State of Alaska Commercial Fisheries (Comp) | Togiak, AK | 04/16/2003 | 04/14/2003
51,514 | Crown Pacific Ltd (Wkrs) | Prinevile, OR | 04/16/2003 | 04/15/2003
51,515 | Sanmina—SCI (MA) | Wilmington, MA | 04/16/2003 | 04/15/2003
51,516 | Aerotech Automotive (MI) | Kentwood, MI | 04/16/2003 | 04/14/2003
51,517 | Ace's Sanding Shop (Wkrs) | Thomasville, NC | 04/16/2003 | 04/14/2003
51,518 | Skyworks Solution, Inc. (Wkrs) | Wobum, MA | 04/16/2003 | 04/14/2003
51,519 | Bronze Craft Corporation (Comp) | Nashua, NH | 04/16/2003 | 04/11/2003
51,520 | Bethleham Steel Railroads (Wkrs) | Bethlehem, PA | 04/16/2003 | 04/16/2003
51,521 | EMCO Flow Systems (CO) | Longmont, CO | 04/17/2003 | 04/16/2003
51,522 | J.E. Morgan Knitting Mills (Comp) | Tamaqua, PA | 04/17/2003 | 04/11/2003
51,523 | Stimson Lumber Company (WA) | Colville, WA | 04/17/2003 | 04/14/2003
51,524 | General Electric (IBEW) | Bloomington, IN | 04/17/2003 | 04/16/2003
51,525 | West Branch Industries (Wkrs) | West Branch, MI | 04/17/2003 | 04/10/2003
51,526 | Yofi Textile Printing Company, Inc. (UNITE) | Passaic, NJ | 04/17/2003 | 02/26/2003
51,527 | Robert Half Technology (Comp) | Oklahoma City, OK | 04/17/2003 | 04/14/2003
51,528 | Battery Sales, Inc. (Comp) | Hempstead, NY | 04/17/2003 | 03/14/2003
51,529 | Mistequay Group, Ltd. (MI) | Saginaw, MI | 04/17/2003 | 04/08/2003
51,530 | Photronics, Inc. (Comp) | Phoenix, AZ | 04/17/2003 | 04/11/2003
51,531 | Susquehanna Metal Products, Inc. (Comp) | Watsontown, PA | 04/17/2003 | 05/15/2003
51,532 | Sony Technology Center (Comp) | San Diego, CA | 04/17/2003 | 04/16/2003
51,533 | Belcase Office Furniture, Inc. (AR) | Ratcliff, AR | 04/17/2003 | 04/16/2003
51,534 | HTP Security (Comp) | Goldendale, WA | 04/17/2003 | 04/11/2003
51,535 | IBM Corporation (Wkrs) | San Jose, CA | 04/18/2003 | 03/15/2003
51,536 | Set Net (Comp) | Kodiak, AK | 04/18/2003 | 04/17/2003
51,537 | Tru Stitch Footwear (Div. of Wolvering) (UFCW) | Malone, NY | 04/18/2003 | 04/08/2003
51,538 | Agrium U.S., Inc. (Comp) | Kenai, AK | 04/18/2003 | 04/16/2003
51,539 | Divine Bros Co. (UNITE) | Utica, NY | 04/18/2003 | 02/14/2003
51,540 | General Mills (Comp) | Toledo, OH | 04/18/2003 | 04/07/2003
51,541 | Luzenac America (Comp) | Windsor, VT | 04/18/2003 | 03/25/2003
51,542 | Ametek, Inc. (Comp) | Racine, WI | 04/18/2003 | 04/07/2003

[FR Doc. 03-11133 Filed 5-5-03; 8:45 am]

BILLING CODE 4510-30-M